DEPARTMENT OF THE TREASURY

Community Development Financial Institutions Fund

Notice of Funds Availability Inviting Applications for the Community Development Financial Institutions Program—Financial Assistance Component

AGENCY: Community Development Financial Institutions Fund, Department of the Treasury.

ACTION: Change of application deadline.

SUMMARY: On February 26, 2004, the Community Development Financial Institutions Fund (the “Fund”) announced in a NOFA for the Financial Assistance Component of the CDFI Program (69 FR 9018) that the deadline for applications for assistance through the Financial Assistance Component was 5 p.m. e.t. on April 28, 2004. This notice is to announce that the application deadline for the FY 2004 funding round of the Financial Assistance Component of the CDFI Program has been extended to 5 p.m. e.t. on April 30, 2004. This notice is to also announce that the Fund will respond to applicants' programmatic, reporting, compliance, information technology, administrative or disbursement phone calls or e-mail inquiries that are received on or before 5 p.m. e.t. on April 28, 2004 (2 days before the application deadline). The deadline for submission of original signatures, documentation from the Internal Revenue Service (IRS) confirming the applicant's Employer Identification Number, and all other required paper attachments has not changed. Original signatures, IRS documentation and paper attachments must be submitted not later than 5 p.m. e.t. on May 5, 2004. All other information and requirements set forth in the February 26, 2004, NOFA for the Financial Assistance Component shall remain effective, as published.

FOR FURTHER INFORMATION CONTACT: If you have any questions about the programmatic requirements for this program, contact the Fund's Program Operations Manager. If you have questions regarding administrative requirements, contact the Fund's Grants Management and Compliance Manager. The Program Operations Manager and the Grants Management and Compliance Manager may be reached by e-mail at cdfihelp@cdfi.treas.gov, by telephone at (202) 622-6355, by facsimile at (202) 622-7754, or by mail at CDFI Fund, 601 13th Street, NW., Suite 200 South, Washington, DC 20005. These are not toll free numbers.

Authority: 12 U.S.C. 4703; Chapter X, Pub. L. 104-19, 109 Stat. 237.

Dated: April 27, 2004.
Owen M. Jones,
Acting Director, Community Development Financial Institutions Fund.

[FR Doc. 04-9841 Filed 4-28-04; 8:45 am]

BILLING CODE 4810-70-P